DEPARTMENT OF STATE

[Public Notice: 10440]

U.S. National Commission for UNESCO Notice of Teleconference Meeting

The U.S. National Commission for UNESCO will hold a conference call on Thursday, June 28, 2018, from 11:00 a.m. until 12:00 p.m. Eastern Daylight Time. This will be a teleconference meeting to consider the recommendations of the Commission's National Committee for the Intergovernmental Oceanographic Commission (IOC). The Commission will accept brief oral comments during a portion of this conference call. The public comment period will be limited to approximately 10 minutes in total, with two minutes allowed per speaker. For more information, or to arrange to participate in the conference call, individuals must make arrangements with the Executive Director of the National Commission by June 26, 2018.

The National Commission may be contacted via email at DCUNESCO@state.gov.

Paul T. Mungai,
Acting Executive Director, U.S. National Commission for UNESCO, Department of State.

[FR Doc. 2018-12504 Filed 6-8-18; 8:45 am]

BILLING CODE 4710-19-P